DEPARTMENT OF HOUSING AND URBAN DEVELOPMENT

[Docket No. FR-4568-N-01]

Notice of Proposed Information Collection: Comment Request Affirmative Fair Housing Marketing Plan

AGENCY: Office of the Assistant Secretary for Fair Housing and Equal Opportunity, HUD.

ACTION: Notice.

SUMMARY: The proposed information collection requirement described below will be submitted to the Office of Management and Budget (OMB) for review, as required by the Paperwork Reduction Act. The Department is soliciting public comments on the subject proposal.

DATES: Comments Due Date: May 5, 2000.

ADDRESSES: Interested persons are invited to submit comments regarding this proposal. Comments should refer to the proposal by name and/or OMB Control Number and should be sent to: Steven Tursky, Reports Liaison Officer, Fair Housing and Equal Opportunity, Department of Housing and Urban Development, 451 7th Street SW., Room 5222, Washington, DC 20410-5000.

FOR FURTHER INFORMATION CONTACT: Steven Tursky, Department of Housing and Urban Development, 451 7th Street SW, Room 5222, (202) 708-2288 (this is not a toll-free number) for copies of the proposed forms and other available documents. Hearing or speech-impaired individuals may access this number TTY by calling the toll-free Federal Information Relay Service at 1-800-877-8399.

SUPPLEMENTARY INFORMATION: The Department will submit the proposed information collection to OMB for review, as required by the Paperwork Reduction Act of 1995 (44 U.S.C. Chapter 35, as amended). The Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Affirmative Fair Housing Marketing Plan. OMB Control Number: 2529-0013.

Description of the need for the information and proposed use: HUD uses this information to assess the adequacy of the applicant's proposed actions to carry out the Affirmative Fair Housing Marketing requirements of 24 CFR 200.600 and review compliance with these requirements under 24 CFR Part 108, the AFHM Compliance Regulations.

Agency form numbers, if applicable: HUD 935.2.

Members of affected public: Applicants for mortgage insurance under the Department's insured single family and multifamily programs.

Estimation of the total numbers of hours needed to prepare the information collection including the number of respondents, frequency of response, and hours of response: On an annual basis, 2,500 respondents, 1 response per respondent, 2,500 total responses, 1,875 total burden hours.

Status of the proposed information collection: Extension of the expiration date of a currently approved collection without any change in the substance or in the method of collection.

Authority: Section 3506 of the Paperwork Reduction Act of 1995, 44 U.S.C. Chapter 35, as amended.

Dated: February 25, 2000.
Pamela Walsh,
Director, Program Standards Division.

[FR Doc. 00-5275 Filed 3-3-00; 8:45 am]

BILLING CODE 4210-08-M